DEPARTMENT OF COMMERCE

Foreign-Trade Zones Board

[B-1-2017]

Foreign-Trade Zone (FTZ) 221—Mesa, Arizona; Authorization of Production Activity; Apple Inc.; (Data Server Cabinets); Mesa, Arizona

On December 27, 2016, the City of Mesa Office of Economic Development, grantee of FTZ 221, submitted a notification of proposed production activity to the FTZ Board on behalf of Apple Inc., within Subzone 221A, in Mesa, Arizona.

The notification was processed in accordance with the regulations of the FTZ Board (15 CFR part 400), including notice in the Federal Register inviting public comment (82 FR 2311, January 9, 2017). On April 26, 2017, the applicant was notified of the FTZ Board's decision that no further review of the activity is warranted at this time. The production activity described in the notification was authorized, subject to the FTZ Act and the FTZ Board's regulations, including Section 400.14.

Dated: June 8, 2017.
Andrew McGilvray,
Executive Secretary.

[FR Doc. 2017-12414 Filed 6-14-17; 8:45 am]

BILLING CODE 3510-DS-P